DEPARTMENT OF HOMELAND SECURITY

National Communications System

Telecommunications Service Priority System Oversight Committee

AGENCY: National Communications System (NCS), DHS.

ACTION: Notice of meeting.

A meeting of the Telecommunications Service Priority (TSP) System Oversight Committee will convene Wednesday, May 5, 2004, from 9 a.m. to 12 p.m. The meeting will be held at 701 South Courthouse Road, Arlington, VA in the NCS conference room on the 2nd floor.

• TSP Program Update;

• TSP Revalidation Update;

• PSWG Update.

Anyone interested in attending or presenting additional information to the Committee, please contact Deborah Bea, Office of Priority Telecommunications, (703) 607-4933. Media or Press must contact Mr. Steve Barrett at (703) 607-6211.

Peter M. Fonash,
Certifying Officer.

[FR Doc. 04-8622 Filed 4-15-04; 8:45 am]

BILLING CODE 4410-10-M